FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 27, 2001.

A. Federal Reserve Bank of Kansas City (Susan Zubradt, Assistant Vice President) 925 Grand Avenue, Kansas City, Missouri 64198-0001:

1. Joseph D. Freund Irrevocable Trust No. 2, the Duane M. Freund Irrevocable Trust No. 2, the Kenneth J. Freund Irrevocable Trust No. 2, and the Michael R. Freund Irrevocable Trust No. 2, all of Aurora, Colorado, and the following individuals who serve as co-trustees of one or more of the trusts: Joseph Freund, Jr., Elizabeth, Colorado, James Campbell, Denver, Colorado, Laura Freund Buddington, Denver, Colorado, Scott Freund, Elizabeth, Colorado, Phillip Pasion, Parker, Colorado, Angela Freund Bennett, Denver, Colorado, and Kenneth Freund, Jr, Aurora, Colorado, to retain voting shares of Commerce Bankshares, Inc., Aurora, Colorado, and thereby indirectly retain voting shares of Commerce Bank, Aurora, Colorado.

Board of Governors of the Federal Reserve System, December 7, 2001.
Robert deV. Frierson,
Deputy Secretary of the Board.

[FR Doc. 01-30783 Filed 12-12-01; 8:45 am]

BILLING CODE 6210-01-S